POSTAL SERVICE

39 CFR Part 266

Privacy of Information; Adding Clarifying Language Concerning the Purpose of a Contract or Interagency Agreement

AGENCY: Postal Service™.

ACTION: Final rule.

SUMMARY: The Postal Service is adding language for clarification purposes to ensure that the purpose of a contract or interagency agreement complies with the Postal Reorganization Act and the Privacy Act of 1974.

DATES: Effective date: January 23, 2018.

FOR FURTHER INFORMATION CONTACT: Natalie A. Bonanno, Chief Counsel, Federal Compliance, natalie.a.bonanno@usps.gov, 202-268-2944.

SUPPLEMENTARY INFORMATION: On October 11, 2017 (82 FR 47115), the Postal Service published its revised privacy regulations to implement numerous non-substantive editorial changes effective on the same date. These changes included renaming certain offices with privacy-related duties, modification of the roles of employees tasked with implementing aspects of the privacy regulations, and minor editorial changes to postal privacy policy to improve its consistency and clarity. The Postal Service is now adding clarifying language to ensure the purpose of a contract or interagency agreement complies with the Postal Reorganization Act and the Privacy Act of 1974.

List of Subjects in 39 CFR Part 266

Privacy.

For the reasons stated in the preamble, the Postal Service amends 39 CFR chapter I as follows:

PART 266—[AMENDED]

1. The authority citation for 39 CFR part 266 continues to read as follows:

Authority: 5 U.S.C. 552a; 39 U.S.C. 401.

2. Revise § 266.3(b)(3) to read as follows:

§ 266.3 Collection and disclosure of information about individuals.

* * * * *

(b) * * *

(3) Under 39 U.S.C. 412(a), the Postal Service shall not make a mailing or other list of names or addresses (past or present) of postal patrons or other persons available to the public, unless such action is authorized by law. Consistent with this provision, the Postal Service may make such a list available as follows:

(i) In accordance with 39 U.S.C. 412(b), to the Secretary of Commerce for use by the Bureau of the Census;

(ii) As required by the terms of a legally enforceable contract entered into by the Postal Service under its authority contained in 39 U.S.C. 401(3) and when subject to a valid non-disclosure agreement. The purpose of the contract must comply with 5 U.S.C. 552a(n), which prohibits the sale or rental of an individual's name and address;

(iii) As required by the terms of a legally enforceable interagency agreement entered into by the Postal Service under its authority contained in 39 U.S.C. 411 and when subject to a valid non-disclosure agreement. The purpose of the interagency agreement must comply with 5 U.S.C. 552a(n), which prohibits the sale or rental of an individual's name and address;

(iv) In accordance with 5 U.S.C. 552a(b), the Postal Service may disclose a list of names and addresses of individuals pursuant to a written request by, or with the prior written consent of, each individual whose name and address is contained in such list, provided that such names and addresses are derived from records maintained by the Postal Service in a system of records as defined by 5 U.S.C. 552a(a); or

(v) As otherwise expressly authorized by federal law.

* * * * *

Tracy A. Quinlan,
Attorney, Federal Compliance.

[FR Doc. 2018-01084 Filed 1-22-18; 8:45 am]

BILLING CODE 7710-12-P